DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: Inadequate Interoperability Cost Analysis of the U.S. Capital Facilities Industry Surveys.

Form Number(s): None.

OMB Approval Number: None.

Type of Review: Regular submission.

Burden Hours: 113.

Number of Respondents: 225.

Average Hours Per Response: 30 minutes.

Needs and Uses: The surveys, to be administered to capital facilities architects, general contractors, engineers, suppliers, software developers, and owner-operators, are designed to gather quantitative data. The data will be used to calculate the efficiency loss, in dollars, of inadequate electronic interoperability in the capital facilities supply chain and in capital facilities life cycle management. Each aforementioned stakeholder group will be administered a survey tailored to their activities in the design, construction, and operation of capital facilities.

The surveys will collect data on respondents' capital facilities projects, business processes involving the exchange of electronic and paper-based communication, information technology investments, and the amount of labor involved in managing information flows internally and externally. The respondents will also be offered the opportunity to freely comment on the extent to which interoperability issues impact their businesses and operations.

Affected Public: Business or for-profit organizations.

Frequency: One-time.

Respondent's Obligation: Voluntary.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jacqueline Zeiher, OMB Desk Officer, Room 10202, New Executive Office Building, Washington, DC 20503.

Dated: September 9, 2003.
Gwellnar Banks,
Management Analyst, Office of the Chief Information Officer.

[FR Doc. 03-23373 Filed 9-12-03; 8:45 am]

BILLING CODE 3510-13-P